DEPARTMENT OF THE INTERIOR

Bureau of Land Management

[LLMTC00000.L12200000.MA0000.241A00.223L1109AF (MO#4500158770)]

Notice of Public Meeting, Missouri Basin Resource Advisory Council Meeting, Montana

AGENCY: Bureau of Land Management, Interior.

ACTION: Notice of public meeting.

SUMMARY: In accordance with the Federal Land Policy and Management Act and the Federal Advisory Committee Act of 1972, the U.S. Department of the Interior, Bureau of Land Management (BLM) Missouri Basin Resource Advisory Council (RAC) will meet as indicated.

DATES: The Missouri Basin RAC meeting will be held from 9 a.m. to 4 p.m. Mountain Time on January 12, 2022.

ADDRESSES: The meeting will be held virtually on the ZOOM platform. The meeting link and participation instructions will be made available to the public via news media and on the Missouri Basin RAC's web page at https://www.blm.gov/get-involved/resource-advisory-council/near-you/montana-dakotas/missouri-basin-rac.

FOR FURTHER INFORMATION CONTACT: Mark Jacobsen, Missouri Basin RAC Coordinator, BLM Eastern Montana/Dakotas District Office, 111 Garryowen Road, Miles City, Montana 59301; telephone: (406) 233-2831; email: mjacobse@blm.gov. Persons who use a telecommunications device for the deaf (TDD) may call the Federal Relay Service (FRS) at (800) 677-8339 to contact Mark Jacobsen during normal business hours. The FRS is available 24 hours a day, 7 days a week to leave a message or question. You will receive a reply during normal business hours.

SUPPLEMENTARY INFORMATION: The 15-member council advises the Secretary of the Interior, through the BLM, on a variety of planning and management issues associated with public-land management in Central and Eastern Montana, North Dakota, and South Dakota. Meeting agenda topics will include Central and Eastern Montana/Dakotas District reports, Field Office manager reports, the Revised North Dakota Resource Management Plan, individual RAC member reports on resource-related issues, a public comment period, and other topics and items of interest the council may wish to discuss. All meetings are open to the public and the public may address or present written comments to the RAC. A public comment period will be held at 2:45 p.m. Depending on the number of persons wishing to comment and time available, the time for individual oral comments may be limited. Individuals who plan to phone in and need special assistance, such as sign language interpretation or other reasonable accommodations, should contact the BLM, see the FOR FURTHER INFORMATION CONTACT section earlier.

Before including your address, phone number, email address, or other personal identifying information in your comments, please be aware that your entire comment, including your personal identifying information, may be made publicly available at any time. While you can ask us in your comment to withhold your personal identifying information from public review, we cannot guarantee that we will be able to do so.

(Authority: 43 CFR 1784.4-2)

John Mehlhoff,
Montana/Dakotas State Director.

[FR Doc. 2021-26837 Filed 12-10-21; 8:45 am]

BILLING CODE 4310-DN-P